DEPARTMENT OF TRANSPORTATION

Federal Highway Administration

Notice of Rescinding the Record of Decision (ROD) for the State Route 704, Cross Base Highway Project in Pierce County, Washington

AGENCY: Federal Highway Administration, DOT.

ACTION: Rescinding the Record of Decision.

SUMMARY: The Federal Highway Administration is issuing this notice to advise the public that the Record of Decision for the proposed State Route 704 Cross Base Highway in Pierce County, Washington is being rescinded.

FOR FURTHER INFORMATION CONTACT: Mr. Dean Moberg, Area Engineer, Washington Division, Federal Highway Administration, 711 Capitol Way, Suite 501, Olympia, WA 98501.

SUPPLEMENTARY INFORMATION: The FHWA, as the lead federal agency, in cooperation with the Washington State Department of Transportation and Pierce County published a Record of Decision (ROD) on August 2, 2004 for the State Route 704 Cross Base Highway Project. This project involved a new arterial highway between State Route 7 and Interstate 5 in Pierce County. Since that time, WSDOT has only advanced one of five project stages, but has not advanced further design, right of way acquisition or construction of the other stages since 2007 due to public policy, litigation and transportation demand reasons. The FHWA has determined that the ROD dated August 2, 2004 for the September 2003 Final Environmental Impact Statement on this project is no longer a valid document without further environment analysis and review pursuant to the requirements of the National Environmental Policy Act pursuant to 42 U.S.C. 4321, et seq. and 23 Code of Federal Regulations 771 and therefore will be rescinded. Comments and questions concerning this proposed action should be directed to FHWA at the address provided above.

Issued on: August 22, 2017.
Daniel M. Mathis,
Division Administrator, Washington Division, Federal Highway Administration.

[FR Doc. 2017-18262 Filed 8-28-17; 8:45 am]

BILLING CODE P